DEPARTMENT OF ENERGY

Federal Energy Regulatory Commission

[Docket No. OR19-21-000]

Notice of Complaint: American Airlines, Inc., Chevron Products Company, HollyFrontier Refining & Marketing LLC, Southwest Airlines Co., Valero Marketing and Supply Company v. SFPP, LP

Take notice that on April 4, 2019, Pursuant to Rule 206 of the Rules of Practice and Procedure of the Federal Energy Regulatory Commission (Commission or FERC), 18 CFR 385.206, Section 343.2 of the Procedural Rules Applicable to Oil Pipeline Proceedings, 18 CFR 343.2, and Sections 1(5), 8, 9, 13, 15, and 16 of the Interstate Commerce Act (ICA), 49 U.S.C. App. 1(5), 8, 9, 13, 15, and 16 (1988), American Airlines, Inc., (American), Chevron Products Company, a division of Chevron U.S.A. Inc. (Chevron), HollyFrontier Refining & Marketing LLC (HollyFrontier), Southwest Airlines Co. (Southwest), and Valero Marketing and Supply Company (VMSC) (jointly, Complainants) filed a formal complaint (complaint) against SFPP, L.P. (SFPP) challenging the justness and reasonableness of West Line (Tariff No. 198.20.0), East Line (Tariff No. 197.13.0), North Line (Tariff No. 199.9.0), and Oregon Line (Tariff No. 200.12.0) index rate increases taken and implemented for the 2018 Index, as more fully explained in the complaint.

The Complainant certify that copies of the complaint was served on the contacts for SFPP, L.P. as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the eFiling link at http://www.ferc.gov. Persons unable to file electronically should submit an original and 5 copies of the protest or intervention to the Federal Energy Regulatory Commission, 888 First Street NE, Washington, DC 20426.

This filing is accessible on-line at http://www.ferc.gov, using the eLibrary link and is available for electronic review in the Commission's Public Reference Room in Washington, DC. There is an eSubscription link on the website that enables subscribers to receive email notification when a document is added to a subscribed docket(s). For assistance with any FERC Online service, please email FERCOnlineSupport@ferc.gov, or call (866) 208-3676 (toll free). For TTY, call (202) 502-8659.

Comment Date: 5:00 p.m. Eastern Time May 3, 2019.

Dated: April 5, 2019.
Nathaniel J. Davis, Sr.,
Deputy Secretary.

[FR Doc. 2019-07160 Filed 4-10-19; 8:45 am]

BILLING CODE 6717-01-P